DEPARTMENT OF COMMERCE

National Oceanic and Atmospheric Administration

[RTID 0648-XA927]

North Pacific Fishery Management Council; Public Meeting

AGENCY: National Marine Fisheries Service (NMFS), National Oceanic and Atmospheric Administration (NOAA), Commerce.

ACTION: Notice of web conference. Meetings of the North Pacific Fishery Management Council and its advisory committees.

SUMMARY: The North Pacific Fishery Management Council (Council) and its advisory committees will meet from April 5, 2021, through April 17, 2021.

DATES: The Council's Scientific and Statistical Committee (SSC) will begin at 8 a.m. on Monday, April 5, 2021, and continue through Friday, April 9, 2021. The Council's Advisory Panel (AP) will begin at 8 a.m. on Tuesday, April 6, 2021, and continue through Saturday, April 10, 2021. The Council's Executive Committee will be held on Friday, April 9, 2021, from 9 a.m. to 11 a.m. The Council will meet on Monday, April 12, 2021, through Saturday, April 17, 2021. All times listed are Alaska Time.

ADDRESSES: The meetings will be by webconference. Join online through the links at https://www.npfmc.org/upcoming-council-meetings.

Council address: North Pacific Fishery Management Council, 1007 W 3rd Ave, Anchorage, Alaska 99501-2252; telephone (907) 271-2809. Instructions for attending the meeting via web conference are given under Connection Information below.

FOR FURTHER INFORMATION CONTACT: Diana Evans, Council staff; telephone (907) 271-2809; email: diana.evans@noaa.gov. For technical support, please contact our administrative staff, email: npfmc.admin@noaa.gov.

SUPPLEMENTARY INFORMATION:

Agenda

Monday, April 5, 2021, Through Friday, April 9, 2021

The SSC agenda will include the following issues:

(1) BSAI Halibut ABM—Initial Review

(2) Scallops—SAFE report, ABC/OFL, Plan Team Report

(3) Salmon Bycatch—Chinook/chum genetics reports

(4) Economic Data Reports—Workshop report, SSPT report

(5) Research Priorities—Set 3-year priorities

(6) AFSC Community Report

(7) Seabird Bycatch Report

(8) Planning for 2022 EFH review

The agenda is subject to change, and the latest version will be posted at https://meetings.npfmc.org/Meeting/Details/1944 prior to the meeting, along with meeting materials.

In addition to providing ongoing scientific advice for fishery management decisions, the SSC functions as the Council's primary peer review panel for scientific information, as described by the Magnuson-Stevens Act section 302(g)(1)(e), and the National Standard 2 guidelines (78 FR 43066; July 19, 2013). The peer-review process is also deemed to satisfy the requirements of the Information Quality Act, including the OMB Peer Review Bulletin guidelines.

Friday, April 9, 2021

The Executive Committee will meet in executive session to discuss administrative matters.

Tuesday, April 6, 2021, Through Saturday, April 10, 2021

The Advisory Panel agenda will include the following issues:

(1) GOA Sablefish Pots 3-year review, IFQ committee report

(2) IFQ Access Opportunities—expanded discussion paper, IFQ committee report

(3) RQE Funding Mechanism—Discussion paper

(4) IFQ Committee Report

(5) Scallops—SAFE report, ABC/OFL, Plan Team Report

(6) BSAI Halibut ABM—Initial Review

(7) Salmon—Chinook/chum genetics reports

(8) Economic Data Reports—Workshop report, SSPT report, Revise alternatives

(9) Staff Tasking

Monday, April 12, 2021, Through Saturday, April 17, 2021

The Council agenda will include the following issues. The Council may take appropriate action on any of the issues identified.

(1) All B Reports (Executive Director, NMFS Management, NOAA GC, ADF&G, USCG, USFWS, US Navy, NIOSH, Cooperative reports, AP, SSC reports)

(2) GOA Sablefish Pots 3-year review, IFQ committee report

(3) IFQ Access Opportunities—expanded discussion paper, IFQ committee report

(4) RQE Funding Mechanism—Discussion paper

(5) IFQ Committee Report

(6) Scallops—SAFE report, ABC/OFL, Plan Team Report

(7) BSAI Halibut ABM—Initial Review

(8) Salmon Bycatch (a) Chinook/chum genetics reports (b) Pollock IPA report

(9) Economic Data Reports—Workshop report, SSPT report, Revise Alternatives

(10) Research Priorities

(11) Staff Tasking

Connection Information

You can attend the meeting online using a computer, tablet, or smartphone; or by telephone only. Connection information will be posted online at: https://www.npfmc.org/upcoming-council-meetings. For technical support, please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The deadline for written comments is April 2, 2021, at 5 p.m. Alaska Time.

Authority: 16 U.S.C. 1801 et seq.

Dated: March 16, 2021.
Tracey L. Thompson,
Acting Deputy Director, Office of Sustainable Fisheries, National Marine Fisheries Service.

[FR Doc. 2021-05765 Filed 3-18-21; 8:45 am]

BILLING CODE 3510-22-P